NUCLEAR REGULATORY COMMISSION

10 CFR Parts 2 and 14

[NRC-2025-1336]

RIN 3150-AL54

Streamlining Select Rules of Practice and Procedure

AGENCY: Nuclear Regulatory Commission.

ACTION: Final rule.

SUMMARY: The U.S. Nuclear Regulatory Commission (NRC) is rescinding a discrete number of regulations regarding agency rules of practice and procedure for general hearing management, formal adjudications, and administrative tort claims because they are either inconsistent with statutory requirements or duplicative of statutory requirements and other binding regulations. The NRC is not soliciting public comment on these changes because the changes are limited to agency rules of procedure and practice that do not affect the substantive rights and responsibilities of outside parties.

DATES: This final rule is effective on November 26, 2025.

ADDRESSES: Please refer to Docket ID NRC-2025-1336 when contacting the NRC about the availability of information for this action. You may obtain publicly available information related to this action by any of the following methods:

• Federal Rulemaking Website: Electronically at https://www.regulations.gov. Search for Docket ID NRC-2025-1336. Address questions about NRC dockets to Helen Chang; telephone: 301-415-3228; email: Helen.Chang@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Christopher Prescott, Office of Nuclear Material Safety and Safeguards, U.S. Nuclear Regulatory Commission, Washington, DC 20555-001; telephone: 301-287-9452; email: Christopher.Prescott@nrc.gov.

SUPPLEMENTARY INFORMATION:

Table of Contents:

I. Background

II. Rulemaking Procedure

III. Summary of Changes

IV. Regulatory Flexibility Certification

V. Regulatory Analysis

VI. Backfitting and Issue Finality

VII. Regulatory Planning and Review

VIII. Plain Writing

IX. National Environmental Policy Act

X. Paperwork Reduction Act

XI. Congressional Review Act

I. Background

On May 23, 2025, President Donald J. Trump signed Executive Order (E.O.) 14300, “Ordering the Reform of the Nuclear Regulatory Commission,” which directs the NRC to take a number of actions to help provide the American people with safe, abundant nuclear energy. Section 2 of E.O. 14300 sets forth the policy of the United States to (a) reestablish the United States as the global leader in nuclear energy; (b) facilitate increased deployment of new nuclear reactor technologies; (c) facilitate the expansion of American nuclear energy capacity from approximately 100 GW in 2024 to 400 GW by 2050; (d) employ emerging technologies to safely accelerate the modeling, simulation, testing, and approval of new reactor designs; (e) support the continued operation of, and facilitate appropriate operational extensions for, the current nuclear fleet, as well as the reactivation of prematurely shuttered or partially completed nuclear facilities; and (f) maintain the United States' leading reputation for nuclear safety. This rulemaking addresses E.O. section 5, which states the NRC shall undertake a review and wholesale revision of its regulations and guidance documents guided by the policies set forth in section 2 of the E.O.

II. Rulemaking Procedure

Under the Administrative Procedure Act (5 U.S.C. 553(b)(A)) (APA), notice and comment requirements do not apply “to interpretive rules, general statements of policy, or rules of agency organization, procedure, or practice.” Because this revision affects the NRC's rules of agency procedure and practice, the notice and comment provisions of the APA do not apply. Moreover, the final rule does not change the substantive responsibilities of any person or entity regulated by the NRC.

III. Summary of Changes

The NRC is removing a discrete number of sections in 10 CFR part 2, “Agency Rules of Practice and Procedure,” and part 14, “Administrative Claims Under Federal Tort Claims Act,” because they are either unnecessary or duplicative of statutory requirements or other requirements.

The regulations in 10 CFR part 2 set forth agency rules of practice and procedure that govern the conduct of adjudicatory proceedings. The following 10 CFR part 2 sections are being removed:

• 10 CFR 2.301, “Exceptions,” in its entirety. This regulation notes that the Commission has the authority to provide alternative procedures in adjudications to the extent that the conduct of military or foreign affairs function is involved. The NRC is removing this section because it is duplicative of the provision in the APA (5 U.S.C. 554(a)(4)), which provides an exception to the adjudication requirements in 5 U.S.C. 554 to the extent the conduct of military or foreign affairs functions are involved. An associated change is being made to 10 CFR 2.1000, “Scope of subpart J,” to delete the reference to 10 CFR 2.301.

• 10 CFR 2.390(b)(4)(v), “Public Inspections, exemptions, requests for withholding.” The regulation at 10 CFR 2.390 sets out the procedural requirements for anyone submitting a document to the NRC that they wish to have withheld from public disclosure, either wholly or in part, and (b)(4) lays out the factors the Commission will consider when determining whether information is a trade secret, confidential, or privileged commercial or financial information. The considerations provided in clause (v) constitute the “substantial competitive harm” test. The Freedom of Information Act, however, includes no such test, and the Supreme Court has rejected the test, finding the substantial competitive harm requirement “inconsistent with the terms of the statute.” Food Marketing Institute v. Argus Leader Media, 588 U.S. 427, 430 (2019). Thus, the NRC is removing 10 CFR 2.309(b)(4)(v).

• 10 CFR 2.711, “Evidence,” specifically subparagraphs (e) through (j). Subparagraphs (e) through (j) provide the requirements for admissibility, objections, offer of proof, exhibits, official record, and official notice in formal adjudications conducted under subpart G of 10 CFR part 2. These subparagraphs, however, are redundant to subparagraphs (a) through (f) in subpart C of part 2, at 10 CFR 2.337, “Evidence at a hearing.” Pursuant to 10 CFR 2.300, “Scope of subpart C,” subpart C applies to all adjudications conducted under the authority of the Atomic Energy Act of 1954, the Energy Reorganization Act of 1974, and 10 CFR part 2, unless specifically stated otherwise. Subpart C applies to formal adjudications conducted under subpart G, and the provisions at 10 CFR 2.711(e) through (j) are duplicative to those found at 10 CFR 2.337(a) through (f). As such, the provisions of 10 CFR 2.711(e) through (j) are unnecessary. The NRC is also making the following conforming changes: add references to 10 CFR 2.337(a) through (f) and 10 CFR 2.711(a) through (d) in 10 CFR 2.1000, and modifying 10 CFR 2.704(c)(3) to change the current reference from 10 CFR 2.711(e) to 10 CFR 2.337(a).

The NRC's regulations in 10 CFR part 14 set forth agency procedures for administrative claims under the Federal Tort Claims Act (FTCA), 28 U.S.C. Chapter 171. The FTCA authorizes plaintiffs to obtain compensation from the United States for the torts of its employees in limited circumstances. Under 28 U.S.C. 2672, the Department of Justice (DOJ) has the authority to issue implementing regulations for federal agencies for administrative claims under the FTCA. DOJ's implementing regulations can be found at 28 CFR parts 14 and 15.

The following 10 CFR part 14 sections are being removed:

• 10 CFR 14.1, “Scope of regulations,” specifically subparagraph (d).

• 10 CFR 14.3, “Limit on attorney fees; penalty.”

• 10 CFR 14.11, “Who may file a claim.”

• 10 CFR 14.13, “When a claim is presented to NRC.”

• 10 CFR 14.17, “A claim must be presented to the appropriate agency.”

• 10 CFR 14.19, “When a claim is filed with more than one agency.”

• 10 CFR 14.21, “Filing a claim after an agency final denial.”

• 10 CFR 14.23, “Evidence and information to be submitted.”

• 10 CFR 14.25, “Amending a claim.”

• 10 CFR 14.27, “Time limit.”

• 10 CFR 14.31, “Investigation.”

• 10 CFR 14.35, “Limitation on NRC's authority.”

• 10 CFR 14.37, “Final denial of a claim.”

• 10 CFR 14.39, “Reconsideration of a claim.”

• 10 CFR 14.41, “Payment of approved claims.”

• 10 CFR 14.43, “Acceptance of payment constitutes release.”

• 10 CFR 14.51, “Procedures when employee drivers are sued.”

• 10 CFR 14.53, “Scope of employment record.”

• 10 CFR 14.55, “Removal of state court proceedings.”

• 10 CFR 14.57, “Suit against United States exclusive remedy.”

These regulations are duplicative of the FTCA and DOJ regulations in 28 CFR parts 14 and 15 and are therefore unnecessary. The NRC is retaining 10 CFR 14.1(a)-(c), 14.15, and 14.33. These regulations supplement the DOJ regulations in accordance with 28 CFR 14.11, which authorizes agencies to issue supplementary regulations and establish procedures. The remaining regulations in 10 CFR part 14 provide NRC-specific information on the scope of the regulations, how to submit a claim to the agency, and the official who exercises the authority to adjust, determine, compromise and settle a claim. No change in the NRC's procedures for administrative tort claims will occur as a result of these recissions because the FTCA and DOJ regulations governing administrative tort claims are binding on the NRC.

IV. Regulatory Flexibility Certification

As required by the Regulatory Flexibility Act of 1980, 5 U.S.C. 605(b), the Commission certifies that this rule, if adopted, will not have a significant economic impact on a substantial number of small entities. This final rule would not affect any “small entities” as defined by the Regulatory Flexibility Act or the size standards established by the NRC (10 CFR 2.810).

V. Regulatory Analysis

The rulemaking would decrease costs by simplifying the regulations in three ways: (1) removing provisions that duplicate provisions in the FTCA or sections of 10 CFR and 28 CFR, (2) removing an unnecessary provision that restates an established authority, and (3) removing a provision that is inconsistent with statutory requirements. Removing duplicated and unnecessary provisions will save labor required to understand and comply with the regulations by providing a regulatory code that is more streamlined and easier to read. These savings are minor and difficult to accurately quantify, so the NRC did not quantitatively assess these cost savings. The provision found to be inconsistent with statutory requirements is 10 CFR 2.390(b)(4)(v), which establishes a requirement for a statement of substantial competitive harm. The cost impact of removing this requirement is a minor reduction in the labor required for applicants and licensees submitting requests to withhold information from public disclosure. The NRC did not assess the value of this minor cost savings. No disbenefits of not requiring this information were found. The information can be provided voluntarily if submitters decide to do so, but the information is no longer required. This section constitutes the regulatory analysis of this action and no separate regulatory analysis was prepared for this final rule.

VI. Backfitting and Issue Finality

The proposed changes to parts 2 and 14 in this final rule are recissions, and thus do not impose new or revised requirements on existing licensees or approval holders. Therefore, the changes do not constitute backfitting or affect issue finality for any approvals issued under part 52.

VII. Regulatory Planning and Review

Executive Order (E.O.) 12866

E.O. 12866, as amended by E.O. 14215, provides that the Office of Information and Regulatory Affairs (OIRA) will determine whether a regulatory action is significant as defined by E.O. 12866 and will review significant regulatory actions. OIRA determined that this final rule is not a significant regulatory action under E.O. 12866.

Review Under E.O.s 14154, 14192, 14215, and 14300

NRC has examined this final rulemaking and has determined that it is consistent with the policies and directives outlined in E.O. 14154, “Unleashing American Energy,” E.O. 14192, “Unleashing Prosperity Through Deregulation,” E.O. 14215, “Ensuring Accountability for All Agencies,” and E.O. 14300, “Ordering the Reform of the Nuclear Regulatory Commission.” This final rule is considered an E.O. 14192 deregulatory action.

VIII. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31885).

IX. National Environmental Policy Act

The NRC has determined that this final rule is the type of action eligible for categorical exclusion because it meets criterion described in 10 CFR 51.22(c)(1), which categorically excludes from environmental review amendments to part 2, and it meets criterion described in 10 CFR 51.22(c)(2), which categorically excludes from environmental review rules that are of a minor, nonpolicy nature. The action belongs to a category of actions which the Commission, by rule or regulation, has declared to be a categorical exclusion, after first finding that the category of actions does not individually or cumulatively have a significant effect on the human environment. Therefore, neither an environmental impact statement nor environmental assessment has been prepared for this final rule.

X. Paperwork Reduction Act

This final rule does not contain a collection of information as defined in the Paperwork Reduction Act of 1995 (44 U.S.C. 3501 et seq.) and, therefore, is not subject to the requirements of the Paperwork Reduction Act of 1995.

XI. Congressional Review Act

This final rule is a rule as defined in the Congressional Review Act of 1996 (5 U.S.C. 801-808). The Office of Management and Budget has found that it does not meet the criteria at 5 U.S.C. 804(2).

List of Subjects

10 CFR Part 2

Administrative practice and procedure, Antitrust, Byproduct material, Classified information, Confidential business information, Environmental protection, Freedom of information, Hazardous waste, Nuclear energy, Nuclear materials, Nuclear power plants and reactors, Penalties, Reporting and recordkeeping requirements, Sex discrimination, Source material, Special nuclear material, Waste treatment and disposal.

10 CFR Part 14

Administrative practice and procedure, Claims, Tort claims.

For the reasons set out in the preamble and under the authority of the Atomic Energy Act of 1954, as amended; the Energy Reorganization Act of 1974, as amended; and 5 U.S.C. 552 and 553, the NRC is adopting the following amendments to 10 CFR parts 2 and 14:

PART 2—AGENCY RULES OF PRACTICE AND PROCEDURE

1. The authority citation for part 2 continues to read as follows:

Authority: Atomic Energy Act of 1954, secs. 29, 53, 62, 63, 81, 102, 103, 104, 105, 161, 181, 182, 183, 184, 186, 189, 191, 234 (42 U.S.C. 2039, 2073, 2092, 2093, 2111, 2132, 2133, 2134, 2135, 2201, 2231, 2232, 2233, 2234, 2236, 2239, 2241, 2282); Energy Reorganization Act of 1974, secs. 201, 206 (42 U.S.C. 5841, 5846); Nuclear Waste Policy Act of 1982, secs. 114(f), 134, 135, 141 (42 U.S.C. 10134(f), 10154, 10155, 10161); Administrative Procedure Act (5 U.S.C. 552, 553, 554, 557, 558); National Environmental Policy Act of 1969 (42 U.S.C. 4332); 44 U.S.C. 3504 note. Section 2.205(j) also issued under Sec. 31001(s), Pub. L. 104-134, 110 Stat. 1321-373 (28 U.S.C. 2461 note).

§ 2.301 [Removed and Reserved]

2. Remove and reserve § 2.301.

3. In § 2.390:

a. Revise and republish paragraphs (b)(4)(iii) and (iv); and

b. Remove paragraph (b)(4)(v).

The revisions read as follows:

§ 2.390 Public inspections, exemptions, requests for withholding.

* * * * *

(b) * * *

(4) * * *

(iii) Whether the information was transmitted to and received by the Commission in confidence; and

(iv) Whether the information is available in public sources.

* * * * *

§ 2.704 [Amended]

4. In § 2.704, in paragraph (c)(3), remove the reference “§ 2.711(e)” and add in its place the reference “§ 2.337(a)”.

§ 2.711 [Amended]

5. In § 2.711, remove paragraphs (e) through (j).

6. Revise § 2.1000 to read as follows:

§ 2.1000 Scope of this subpart.

The rules in this subpart, together with the rules in subparts C and G of this part, govern the procedure for an application for authorization to construct a high-level radioactive waste repository at a geologic repository operations area noticed under § 2.101(f)(8) or § 2.105(a)(5), and for an application for a license to receive and possess high-level radioactive waste at a geologic repository operations area. The procedures in this subpart take precedence over those in subpart C, except for the following provisions: §§ 2.303; 2.307; 2.309; 2.312; 2.313; 2.314; 2.315; 2.316; 2.317(a); 2.318; 2.319; 2.320; 2.321; 2.322; 2.323; 2.324; 2.325; 2.326; 2.327; 2.328; 2.330; 2.331; 2.333; 2.335; 2.337(a) through (f); 2.338; 2.339; 2.342; 2.343; 2.344; 2.345; 2.346; 2.348; and 2.390. The procedures in this subpart take precedence over those in subpart G, except for the following provisions: §§ 2.701, 2.702; 2.703; 2.708; 2.709; 2.710; 2.711(a) through (d); and 2.712.

PART 14—ADMINISTRATIVE CLAIMS UNDER FEDERAL TORT CLAIMS ACT

7. The authority citation for part 14 continues to read as follows:

Authority: 28 U.S.C. 2672, 2679; Atomic Energy Act of 1954, sec. 161 (42 U.S.C. 2201); Energy Reorganization Act of 1974, sec. 201 (42 U.S.C. 5841); 28 CFR 14.11.

§ 14.1 [Amended]

8. In § 14.1, remove paragraph (d).

§ 14.3 [Removed and Reserved]

9. Remove and reserve § 14.3.

§ 14.11 [Removed and Reserved]

10. Remove and reserve § 14.11.

§ 14.13 [Removed and Reserved]

11. Remove and reserve § 14.13.

§ 14.17 [Removed and Reserved]

12. Remove and reserve § 14.17.

§ 14.19 [Removed and Reserved]

13. Remove and reserve § 14.19.

§ 14.21 [Removed and Reserved]

14. Remove and reserve § 14.21.

§ 14.23 [Removed and Reserved]

15. Remove and reserve § 14.23.

§ 14.25 [Removed and Reserved]

16. Remove and reserve § 14.25.

§ 14.27 [Removed and Reserved]

17. Remove and reserve § 14.27.

§ 14.31 [Removed and Reserved]

18. Remove and reserve § 14.31.

§ 14.35 [Removed and Reserved]

19. Remove and reserve § 14.35.

§ 14.37 [Removed and Reserved]

20. Remove and reserve § 14.37.

§ 14.39 [Removed and Reserved]

21. Remove and reserve § 14.39.

§ 14.41 [Removed and Reserved]

22. Remove and reserve § 14.41.

§ 14.43 [Removed and Reserved]

23. Remove and reserve § 14.43.

Subpart D [Removed and Reserved]

24. Remove and reserve subpart D, consisting of §§ 14.51, 14.53, 14.55, and 14.57.

Dated: November 24, 2025.
For the Nuclear Regulatory Commission.
Carrie Safford,
Secretary of the Commission.

[FR Doc. 2025-21305 Filed 11-25-25; 8:45 am]

BILLING CODE 7590-01-P